DEPARTMENT OF HEALTH AND HUMAN SERVICES

Administration for Children and Families

Submission for OMB Review; Comment Request

Title: Head Start Impact Study.

OMB No.: 0970-0229.

Description: The Administration on Children, Youth and Families (ACYF), Administration for Children and Families (ACF) of the Department of Health and Human Services (HHS) is requesting comments on plans to conduct the Head Start Impact Study. This study is being conducted under contract with Westat, Inc. (with the Urban Institute, American Institutes for Research, and Decision Information Resources as their subcontractors) (#282-00-0022) to collect information for determining, on a national basis, how Head Start affects the school readiness of children participating in the program as compared to children not enrolled in Head Start and to determine under which conditions Head Start works best and for which children.

The Head Start Impact Study is a longitudinal study that will involve approximately 5,000 first-time enrolled three- and four-year old preschool children across an estimated 90 nationally representative grantee/delegate agencies (in communities where there are more eligible children and families than can be served by the program). Data collection for the full-scale study began in fall 2002 and extends through spring 2006 with child assessments conducted in the fall and spring of the Head Start years and in the spring of the kindergarten and first grade years, and parent interviews conducted in the fall and spring of each year. Interviews/surveys with program staff/care providers, and quality of care assessments will be conducted in the spring of each year. This schedule of data collection is necessitated by the mandate in Head Start's 1998 reauthorization (Coats Human Services Amendments of 1998, PL 105-285) that HHS conduct research to determine, on a national level, the impact of Head Start on the children it serves.

A field test of instruments and procedures was conducted during fall 2001 and spring 2002. The field test involved approximately 450 first-time enrolled three- and four-year old preschool children across eight grantee/delegate agencies representing different community contexts.

Respondents: Individuals or Households, Head Start Agencies, School Districts, and other Child Care Providers.

Annual Burden Estimates: Estimated Response Burden for Respondents to the Head Start Impact Study—fall 2002, spring 2003, fall 2003, spring 2004, fall 2004, spring 2005, fall 2005, and spring 2006.

Instrument | Number of respondents | Number of responses per respondent | Average burden hours per response | Total burden hours
Year 1 (fall 2002):
Parent Interviews | 5,111 | 1 | 1.00 | 5,111
Child Assessments | 5,111 | 1 | 0.9166 | 4,685
Year 1 (spring 2003):
Parent Interviews | 4,599 | 1 | 1.00 | 4,599
Father Questionnaire | 4,599 | 1 | 0.50 | 2,300
Child Assessments | 4,599 | 1 | 0.9166 | 4,216
Teacher/Provider Ratings | 966 | 5 | 0.0833 | 403
Center Directors/Principals | 368 | 1 | 0.25 | 92
Classroom Teachers | 736 | 1 | 0.50 | 368
Other Care Providers | 230 | 1 | 0.50 | 115
Year 2 (fall 2003):
Parent Interviews | 4,139 | 1 | 1.00 | 4,139
Child Assessments | 2,287 | 1 | 0.9166 | 2,096
Year 2 (spring 2004):
Parent Interviews | 3,910 | 1 | 1.00 | 3,910
Child Assessments | 3,910 | 1 | 0.9166 | 3,584
Teacher/Provider Ratings | 803 | 5 | 0.0833 | 335
Center Directors/Principals | 349 | 1 | 0.25 | 87
Classroom Teachers | 700 | 1 | 0.50 | 350
Other Care Providers | 103 | 1 | 0.50 | 52
Year 3 (fall 2004):
Parent Interviews | 3,519 | 1 | 1.00 | 3,519
Year 3 (spring 2005):
Parent Interviews | 3,519 | 1 | 1.00 | 3,519
Child Assessments | 3,519 | 1 | 0.9166 | 3,226
Teacher Ratings | 704 | 5 | 0.0833 | 293
Principals | 352 | 1 | 0.25 | 88
Classroom Teachers | 704 | 1 | 0.50 | 352
Year 4 (fall 2005):
Parent Interviews | 1,667 | 1 | 1.00 | 1,667
Year 4 (spring 2006):
Parent Interviews | 1,667 | 1 | 1.00 | 1,667
Child Assessments | 1,667 | 1 | 0.9166 | 1,528
Teacher Ratings | 333 | 5 | 0.0833 | 139
Principals | 167 | 1 | 0.25 | 42
Classroom Teachers | 333 | 1 | 0.50 | 167
Estimated Total Annual Burden Hours: |  |  |  | 13,162
Note: The 13,162 Total Annual Burden Hours is based on an average of 2002-03, 2003-04, 2004-05, and 2005-06 estimated burden hours.

Additional Information

Copies of the proposed collection may be obtained by writing to the Administration for Children and Families, Office of Information Services, 370 L'Enfant Promenade, SW., Washington, DC 20447, Attn: ACF Reports Clearance Officer. All requests should be identified by the title of the information collection. E-mail address: rsargis@acf.hhs.gov.

OMB Comment

OMB is required to make a decision concerning the collection of information between 30 and 60 days after publication of this document in the Federal Register. Therefore, a comment is best assured of having its full effect if OMB receives it within 30 days of publication. Written comments and recommendations for the proposed information collection should be sent directly to the following: Office of Management and Budget, Paperwork Reduction Project, Washington, DC, Attn: Desk Officer for ACF, E-mail: katherine_t._astrich@omb.eop.gov.

Dated: February 9, 2004.
Robert Sargis,
Reports Clearance Officer.

[FR Doc. 04-3209 Filed 2-12-04; 8:45 am]

BILLING CODE 4184-01-M